ENVIRONMENTAL PROTECTION AGENCY

[FRL-8452-7]

Gulf of Mexico Program Management Committee Meeting

AGENCY: Environmental Protection Agency (EPA).

ACTION: Notice of Meeting Date Change.

SUMMARY: Under the Federal Advisory Committee Act (Pub. L. 92-463), EPA gives notice of a change of the date for the Gulf of Mexico Program (GMP) Management Committee Meeting (MC) published in the Federal Register on July 30, 2007 (72 FR 41506).

For information on access or services for individuals with disabilities, please contact Gloria Car, U.S.EPA, at (228) 688-2421 or car.gloria@epa.gov. To request accommodation of a disability, please contact Gloria Car, preferably at least 10 days prior to the meeting, to give EPA as much time as possible to process your request.

DATES: The meeting will be held on Thursday, August 23, 2007, from 9 a.m. to 5 p.m.

ADDRESSES: The meeting will be held at the Mississippi Department of Marine Resources, 1141 Bayview Avenue, Biloxi, Mississippi 39530, (228) 688-3726.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Gulf of Mexico Program Alliance—Status Brief; Report on Important Emerging Legislative Actions Relevant to the Alliance and/or Gulf Program; Coastal America Update: Designation of Veracruz Aquarium and J.L. Scott Marine Education Center as Coastal Ecosystem Learning Centers (CELCs); Binational Harmful Algal Bloom Veracruz Monitoring Pilot; NASA Remote Sensing—Gulf of Mexico Alliance Applications Initiative; Wastewater to Wetlands; USGS/DOI Alliance Coordination; and Gulf Regional Sediment Management Master Plan.

The meeting is open to the public.

Dated: August 2, 2007.
Gloria D. Car,
Designated Federal Officer.

[FR Doc. E7-15605 Filed 8-8-07; 8:45 am]

BILLING CODE 6560-50-P